BUREAU OF CONSUMER FINANCIAL PROTECTION

[Docket No. CFPB-2022-0066]

Agency Information Collection Activities: Comment Request

AGENCY: Bureau of Consumer Financial Protection.

ACTION: Notice and request for comment.

SUMMARY: In accordance with the Paperwork Reduction Act of 1995 (PRA), the Consumer Financial Protection Bureau (Bureau or CFPB) requests the extension of the Office of Management and Budget's (OMB's) approval of the existing information collection titled “Generic Information Collection Plan for Qualitative Consumer Education, Engagement, and Experience Information Collections” approved under OMB Number 3170-0036.

DATES: Written comments are encouraged and must be received on or before November 3, 2022 to be assured of consideration.

ADDRESSES: Written comments and recommendations for the proposed information collection should be sent within 30 days of publication of this notice to www.reginfo.gov/public/do/PRAMain. Find this particular information collection by selecting “Currently under 30-day Review—Open for Public Comments” or by using the search function. In general, all comments received will become public records, including any personal information provided. Sensitive personal information, such as account numbers or Social Security numbers, should not be included.

FOR FURTHER INFORMATION CONTACT: Documentation prepared in support of this information collection request is available at www.regulations.gov. Requests for additional information should be directed to Anthony May, Paperwork Reduction Act Officer, at (202) 841-0544, or email: CFPB_PRA@cfpb.gov. If you require this document in an alternative electronic format, please contact CFPB_Accessibility@cfpb.gov. Please do not submit comments to these email boxes.

SUPPLEMENTARY INFORMATION:

Title of Collection: Generic Information Collection Plan for Qualitative Consumer Education, Engagement and Experience Information Collections.

OMB Control Number: 3170-0036.

Type of Review: Extension of a currently approved information collection.

Affected Public: Individuals or households; State, local, or tribal governments; private sector.

Estimated Number of Respondents: 48,000.

Estimated Total Annual Burden Hours: 36,000.

Abstract: Under the Dodd-Frank Wall Street Reform and Consumer Protection Act (Pub. L. 111-203, section 1021(c)) one of the Bureau's primary functions is to conduct financial education programs. The Bureau seeks to obtain approval of a generic information collection plan to collect qualitative data on effective financial education strategies and consumer experiences in the financial marketplace from a variety of respondents (including financial educators and consumers). The Bureau will collect this information through a variety of methods including in-person meetings, interviews, focus groups, qualitative surveys, online discussion forums, social media polls, and other qualitative methods as necessary. The information collected through these processes will increase the Bureau's understanding of consumers' financial experiences, financial education and empowerment programs, and practices that can improve financial decision-making skills and outcomes for consumers. This information will also enable the Bureau to better communicate to consumers about the availability of Bureau tools and resources that consumers can use to make better informed financial decisions.

Request for Comments: The Bureau published a 60-day Federal Register notice on July 27, 2022 (87 FR 45088) under Docket Number: CFPB-2022-0051. The Bureau is publishing this notice and soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Anthony May,
Paperwork Reduction Act Officer, Consumer Financial Protection Bureau.

[FR Doc. 2022-21521 Filed 10-3-22; 8:45 am]

BILLING CODE 4810-AM-P